DEPARTMENT OF HOMELAND SECURITY

Federal Emergency Management Agency

44 CFR Part 67

[Docket ID FEMA-2008-0020; Internal Agency Docket No. FEMA-B-1060]

Proposed Flood Elevation Determinations

AGENCY: Federal Emergency Management Agency, DHS.

ACTION: Proposed rule.

SUMMARY: Comments are requested on the proposed Base (1 percent annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or show evidence of having in effect in order to qualify or remain qualified for participation in the National Flood Insurance Program (NFIP). In addition, these elevations, once finalized, will be used by insurance agents, and others to calculate appropriate flood insurance premium rates for new buildings and the contents in those buildings.

DATES: Comments are to be submitted on or before September 30, 2009.

ADDRESSES: The corresponding preliminary Flood Insurance Rate Map (FIRM) for the proposed BFEs for each community are available for inspection at the community's map repository. The respective addresses are listed in the table below.

You may submit comments, identified by Docket No. FEMA-B-1060, to William R. Blanton, Jr., Chief, Engineering Management Branch, Mitigation Directorate, Federal Emergency Management Agency, 500 C Street, SW., Washington, DC 20472, (202) 646-3151, or (e-mail) bill.blanton@dhs.gov.

FOR FURTHER INFORMATION CONTACT: William R. Blanton, Jr., Chief, Engineering Management Branch, Mitigation Directorate, Federal Emergency Management Agency, 500 C Street, SW., Washington, DC 20472, (202) 646-3151 or (e-mail) bill.blanton@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

State | City/town/county | Source of flooding | Location ** | * Elevation in feet (NGVD) + Elevation in feet (NAVD) # Depth in feet above ground ‸ Elevation in meters (MSL): Existing | * Elevation in feet (NGVD) + Elevation in feet (NAVD) # Depth in feet above ground ‸ Elevation in meters (MSL): Modified
City of Williston, North Dakota
North Dakota | City of Williston | Sand Creek | Approximately 105 feet downstream of Riverside Drive West | None | +1852
|  |  | Approximately 2.57 miles upstream of 11th Street | None | +1941
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Williston
Maps are available for inspection at 22 East Broadway, Williston, ND 58802.

Flooding source(s) | Location of referenced elevation ** | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Perry County, Illinois, and Incorporated Areas
Beaucoup Creek | Approximately 200 feet upstream of the railroad at the east end of Cedar Point Lane | None | +407 | Unincorporated Areas of Perry Co.
| Approximately 913 feet upstream of the confluence with Railroad Tributary | None | +416
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of Perry Co
Maps are available for inspection at Perry County Courthouse, 1 Public Square, Pinckneyville, IL 62274.
Will County, Illinois, and Incorporated Areas
Jackson Creek | At the confluence with Jackson Branch Creek | None | +627 | Village of Manhattan.
| Just downstream of 104th Avenue | None | +752
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Village of Manhattan
Maps are available for inspection at 245 South State Street, Manhattan, IL 60442.
Woodford County, Illinois, and Incorporated Areas
Illinois River | Approximately 173.4 miles upstream of the confluence with the Mississippi River (approximately Leisure Lane extended) | None | +460 | Village of Bay View Gardens.
| Approximately 172 miles upstream of the confluence with the Mississippi River (approximately 1,500 feet upstream of Bruce Rich Lane extended) | None | +460
Ten Mile Creek | Approximately 3 miles upstream of the confluence with the Illinois River (approximately Ten Mile Creek Road extended) | None | +507 | Unincorporated Areas of Woodford County.
| Approximately 3.2 miles upstream of the confluence with the Illinois River (approximately 1,075 feet upstream of Ten Mile Creek Road extended) | None | +512
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of Woodford County
Maps are available for inspection at Woodford County Courthouse, 115 North Main Street, Eureka, IL 61530.
Village of Bay View Gardens
Maps are available for inspection at Bay View Gardens Village Hall, 300 Garber Lane #8, East Peoria, IL 61611.
Black Hawk County, Iowa, and Incorporated Areas
Big Woods Creek | Approximately 88 feet upstream of Lone Tree Road | None | +864 | City of Cedar Falls, Unincorporated Areas of Black Hawk County.
| Just downstream of Cedar-Wapsi Road | None | +920
Big Woods Creek Upper Diversion | Approximately 0.5 mile upstream of Mount Vernon Road | None | +870 | Unincorporated Areas of Black Hawk County.
| Approximately 0.6 mile upstream of Cedar-Wapsi Road | None | +875
Black Hawk Creek | Just upstream of West Shaulis Road | +872 | +870 | Unincorporated Areas of Black Hawk County, City of Hudson, City of Waterloo.
| Approximately 975 feet downstream of Zaneta Road | +890 | +891
Cedar River | Just upstream of Lone Tree Road and Interstate 218 | None | +864 | City of Cedar Falls.
| East of Big Woods Road and approximately 0.3 mile south of Dunkerton Road along Illinois Central Gulf Railroad | None | +864
Cedar River | Approximately 0.6 mile downstream of Interstate 218 | +858 | +859 | City of Cedar Falls, City of Waterloo, Unincorporated Areas of Black Hawk County.
| Approximately 2.1 miles upstream of Center Street | +868 | +869
Cedar River Diversion Channel | Approximately 440 feet downstream of State Highway 57 | +859 | +860 | City of Cedar Falls.
| Approximately 1.3 miles upstream of Illinois Central Railroad | +864 | +865
City View Branch | Approximately 0.3 mile downstream of Independence Avenue | +853 | +847 | City of Waterloo.
| Just downstream of Chicago and North Western Railroad | +857 | +859
Crane Creek | Approximately 117 feet downstream of Wheeler Road | None | +936 | Unincorporated Areas of Black Hawk County, City of Dunkerton.
| Just downstream of East Cedar Wapsi Road | None | +967
Crossroads Creek | Approximately 91 feet downstream of Hess Road | None | +845 | City of Waterloo.
| Approximately 514 feet upstream of Alexander Drive | None | +871
Crossroads Creek Diversion | Approximately 91 feet downstream of Hess Road | +846 | +849 | City of Waterloo.
| Approximately 0.3 mile upstream of Sarah Drive | +866 | +867
Dry Run Creek Diversion | Approximately 271 feet upstream of Interstate 218 | +867 | +864 | City of Cedar Falls.
| Approximately 243 feet downstream of Interstate 218 | +868 | +866
Dry Run Creek at Cedar Falls | Approximately 293 feet downstream of Illinois Central Gulf Railroad | +860 | +852 | City of Cedar Falls.
| Approximately 540 feet downstream of U.S. Route 20 | +927 | +928
Dry Run Creek at Waterloo | Approximately 664 feet downstream of Commercial Street | #1 | #2 | City of Waterloo.
| Approximately 106 feet upstream of Byron Avenue | +868 | +861
| Approximately 0.5 mile upstream of Kimball Avenue | None | +942
Maywood Branch | Approximately 0.4 mile downstream of Bishop Avenue | +856 | +855 | City of Waterloo.
| Just upstream of Bishop Avenue | +858 | +857
Myers Lake | West end of lake | +826 | +838 | City of Evansdale.
| East end of lake | +826 | +838
Ponded Area No. 2, from Elk Run Creek, landside of levee | North end of ponding area, approximately 0.3 mile downstream of LaFayette Road | +833 | +836 | City of Evansdale.
| South end of ponding area, approximately 0.4 mile upstream of Gilbert Road | +833 | +836
Ponded Area No.1 from Elk Run Creek, landside of levee | North end of ponding area, approximately 150 feet downstream of Gilbert Drive | +831 | +836 | City of Evansdale.
| South end of ponding area, approximately 350 feet upstream of State Route 380 | +831 | +836
South West Branch of Dry Run Creek | Approximately 279 feet downstream of Main Street | +870 | +865 | City of Cedar Falls.
| Approximately 1.8 miles upstream of Future Greenhill Road | +917 | +921
Stream No. 13 | Approximately 1.0 mile downstream of Wagner Road | +857 | +856 | City of Waterloo.
| Approximately 364 feet upstream of Airline Highway | +864 | +863
Stream No. 36 | Approximately 1.0 mile downstream of Wagner Road | +864 | +863 | City of Waterloo, Unincorporated Areas of Black Hawk County.
| Approximately 0.4 mile downstream of Dunkerton Road | None | +870
Sunnyside Creek | Approximately 0.3 mile downstream of Martin Road | None | +855 | City of Waterloo.
| Approximately 130 feet upstream of 4th Street | None | +878
Sunnyside Creek Bypass | Approximately 0.6 mile downstream of Marine Avenue | +858 | +861 | City of Waterloo.
| Approximately 450 feet upstream of Marine Avenue | None | +869
Unnamed Tributary to Big Woods Creek | Just downstream of Dunkerton Road | None | +864 | City of Cedar Falls.
| Approximately 408 feet West of Interstate 218 | None | +864
Unnamed Tributary to Big Woods Creek | Approximately 0.5 mile upstream of Mount Vernon Road | None | +871 | Unincorporated Areas of Black Hawk County.
| Just upstream of Dunkerton Road | None | +871
Unnamed Tributary to Cedar River | Approximately 182 feet downstream of Dunkerton Road | +863 | +864 | City of Cedar Falls.
| Just upstream of Lone Tree Road | +863 | +864
Wolf Creek | Approximately 0.6 mile downstream of Bike Path | +814 | +815 | City of La Porte City.
| Approximately 1.3 miles upstream of Main Street | None | +824
Wolf Creek Overflow | Approximately 0.4 mile downstream of 8th Street | +814 | +815 | City of La Porte City, Unincorporated Areas of Black Hawk County.
| Approximately 1.3 miles upstream of Poplar Street | +822 | +823
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Cedar Falls
Maps are available for inspection at 220 Clay Street, Cedar Falls, IA 50613.
City of Dunkerton
Maps are available for inspection at 200 Tower Street, Dunkerton, IA 50626.
City of Evansdale
Maps are available for inspection at 123 North Evans Road, Evansdale, IA 50707.
City of Hudson
Maps are available for inspection at 525 Jefferson Street, Hudson, IA 50643.
City of La Porte City
Maps are available for inspection at 202 Main Street, LaPorte City, IA 50651.
City of Waterloo
Maps are available for inspection at 715 Mulberry Street, Waterloo, IA 50703.
Unincorporated Areas of Black Hawk County
Maps are available for inspection at 316 East 5th Street, Suite 203, Waterloo, IA 50703.
Cumberland County, Maine, and Incorporated Areas
Atlantic Ocean | Along the shoreline at the intersection of Hannaford Cove Road, Cunner Lane and Rocky Point Lane | +8 | +12 | Town of Scarborough, Town of Cape Elizabeth.
| Along the shoreline, approximately 1,050 feet east of the intersection of Shore Road and Dyer Pond Road | None | +42
Casco Bay | Along the shoreline, approximately 625 feet south of the intersection of Tondreau Point Road and Birch Run | +8 | +10 | Town of Cape Elizabeth, City of Portland, City of South Portland, Town of Cumberland, Town of Harpswell.
| Along the shoreline, approximately 100 feet east of the intersection of Bluff Road and Cloyster Road | None | +41
Crescent Lake | Along the shoreline at Edwards Road | None | +278 | Town of Casco.
Fore River | Along the shoreline, at the terminus of Portland Street | None | +14 | City of South Portland, City of Portland.
| Along the shoreline, approximately 430 feet south of the intersection of Commercial Street and Chandler Wharf | +9 | +14
Jackson Brook | Approximately 1,500 feet south of the intersection of Thomas Drive and County Road | None | +45 | City of Portland.
Presumpscot River | Approximately 1,250 feet west of the intersection of Cardinal Lane and River Road | None | +225 | Town of Standish.
Saco Bay | Along the shoreline, approximately 1,200 feet west of the intersection of Ferry Road and Black Point Road | None | +12 | Town of Scarborough.
| Along the shoreline at the intersection of Black Point Road and Whittier Lane | +8 | +24
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Portland
Maps are available for inspection at City Hall, 389 Congress Street, Portland, ME 04101.
City of South Portland
Maps are available for inspection at City Hall, 25 Cottage Road, South Portland, ME 04106.
Town of Cape Elizabeth
Maps are available for inspection at Town Hall, 320 Ocean House Road, Cape Elizabeth, ME 04107.
Town of Casco
Maps are available for inspection at Town Hall, 635 Meadow Road, Casco, ME 04015.
Town of Cumberland
Maps are available for inspection at Town Hall, 290 Tuttle Road, Cumberland, ME 04021.
Town of Harpswell
Maps are available for inspection at Town Hall, 263 Mountain Road, Harpswell, ME 04079.
Town of Scarborough
Maps are available for inspection at Town Hall, 259 U.S. Route 1, Scarborough, ME 04074.
Town of Standish
Maps are available for inspection at Town Office, 175 Northeast Road, Standish, ME 04084.
Walthall County, Mississippi, and Incorporated Areas
Magees Creek | Approximately 4,050 feet downstream of State Highway 198 | None | +258 | Unincorporated Areas of Walthall County.
| Approximately 2,300 feet upstream of State Highway 198 | None | +264
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of Walthall County
Maps are available for inspection at 200 Ball Avenue, Tylertown, MS 39667.
St. Charles County, Missouri, and Incorporated Areas
Blanchette Creek (Backwater from Missouri River) | Just downstream of Katy Trail/Abandoned Railroad | +454 | +455 | Unincorporated Areas of St. Charles County, City of St. Charles.
| At the confluence with the Missouri River | +454 | +455
Crystal Springs Creek (Backwater from Missouri River) | At the confluence with the Missouri River | +456 | +457 | Unincorporated Areas of St. Charles County, City of St. Charles.
| Approximately 871 feet upstream of South River Road | +456 | +457
Duckett Creek (Overflow from Missouri River) | At the confluence with the Missouri River | +461 | +462 | Unincorporated Areas of St. Charles County.
| Approximately 0.5 miles upstream of Jungs Station Road | +462 | +463
Femme Osage Creek (Backwater from Missouri River) | Approximately 0.4 miles downstream of State Highway 94 | +474 | +476 | Unincorporated Areas of St. Charles County.
| Approximately 1.4 miles downstream of Defiance Road | +475 | +476
Mississippi River | At the St. Charles County, Missouri/St. Louis County, Missouri/Madison County, Illinois county boundary, approximately 6.2 miles downstream of Melvin Price Lock and Dam | +436 | +434 | Unincorporated Areas of St. Charles County, City of O'Fallon, City of Portage Des Sioux, City of St. Charles, City of St. Paul, City of St. Peters, Town of West Alton.
| At the St. Charles County/Lincoln County boundary, approximately 3.0 miles upstream of confluence with Peruue Creek | +445 | +444
Missouri River | At the St. Charles County, Missouri/St. Louis County, Missouri/Madison County, Illinois county boundary, approximately 7.4 miles downstream of the Lewis Bridge | +436 | +434 | Unincorporated Areas of St. Charles County, City of St. Charles, City of Weldon Spring, Town of West Alton, Village of Augusta.
| Near the St. Charles County/Warren County boundary, approximately 22.3 miles upstream of the Danel Boon Bridge | +486 | +492
Taylor Branch (Backwater from Missouri River) | At the confluence with the Missouri River | +458 | +460 | Unincorporated Areas of St. Charles County, City of St. Charles.
| Approximately 0.6 miles upstream of South River Road | +458 | +460
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of O'Fallon
Maps are available for inspection at 100 North Main Street, O'Fallon, MO 63366.
City of Portage Des Sioux
Maps are available for inspection at 201 North Second Street, Room 420, St. Charles, MO 63301.
City of St. Charles
Maps are available for inspection at 200 North Second Street, St. Charles, MO 63301.
City of St. Paul
Maps are available for inspection at 2300 St. Paul Road, St. Paul, MO 63366.
City of St. Peters
Maps are available for inspection at 1 St. Peters Centre Boulevard, St. Peters, MO 63376.
City of Weldon Spring
Maps are available for inspection at 5401 Independence Road, Weldon Springs, MO 63304.
Town of West Alton
Maps are available for inspection at 201 North Second Street, Room 420, St. Charles, MO 63301.
Unincorporated Areas of St. Charles County
Maps are available for inspection at 201 North Second Street, Room 420, St. Charles, MO 63301.
Village of Augusta
Maps are available for inspection at 201 North Second Street, Room 420, St. Charles, MO 63301.
Sequoyah County, Oklahoma, and Incorporated Areas
Hog Creek | Just upstream of East 1040 Road | +578 | +577 | Unincorporated Areas of Sequoyah County.
| Approximately 0.85 miles upstream of East 1040 Road | +617 | +619
Sewage Disposal Pond | Just downstream of Pacific Union railroad | None | +481 | Town of Gore.
| Approximately 0.47 miles downstream of Union Pacific railroad | None | +481
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Town of Gore
Maps are available for inspection at 201 North Main Street, Gore, OK 74435.
Unincorporated Areas of Sequoyah County
Maps are available for inspection at 117 South Oak Street, Salisaw, OK 74955.
Bledsoe County, Tennessee, and Incorporated Areas
Sequatchie River | Approximately 1,200 feet downstream of State Highway 30 | None | +819 | Bledsoe County.
| Approximately 2,745 feet downstream of Upper East Valley Road | None | +825
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Bledsoe County
Maps are available for inspection at 3031 Main St, Suite 600, Pikeville, TN 37367.
Goliad County, Texas, and Incorporated Areas
San Antonio River | Approximately 600 feet upstream of confluence with Maddox Branch | None | +142 | Unincorporated Areas of Goliad County.
| Approximately 1,300 feet upstream of South San Patricio Street | None | +147
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of Goliad County
Maps are available for inspection at 127 N. Courthouse Square, Goliad, TX 77963-0677.
Taylor County, Texas, and Incorporated Areas
Button Willow Creek | Just downstream of Treadway Boulevard | +1755 | +1756 | City of Abilene.
| Just upstream of Beltway South | None | +1825
Cat Claw Creek | At the confluence with Elm Creek | +1679 | +1677 | City of Abilene.
| Just upstream of 14th Street | +1739 | +1738
Cat Claw Creek | Just upstream of Rebecca Lane | +1780 | +1779 | City of Abilene, Unincorporated Areas of Taylor County.
| Approximately two miles upstream of Farm-to-Market Road 707 | None | +1842
Cat Claw Creek Diversion Channel | At the confluence with Cat Claw Creek | +1752 | +1758 | City of Abilene.
| Just upstream of Nonesuch Road | +1759 | +1762
Cat Claw Creek Diversion Channel 1 | At the confluence with Cat Claw Drive Channel | +1761 | +1762 | City of Abilene.
| Just upstream of Nonesuch Road | +1761 | +1762
Cat Claw Drive Channel | Just downstream of Southwest Drive | +1761 | +1762 | City of Abilene.
| At the confluence with Cat Claw Creek | +1766 | +1777
Cedar Creek | Just upstream of North 10th Street | +1687 | +1688 | City of Abilene, Unincorporated Areas of Taylor County.
| Just downstream of Beltway South | +1790 | +1791
Elm Creek | Approximately 0.7 miles downstream of Nugent Road. | None | +1650 | City of Abilene, Unincorporated Areas of Taylor County.
| At the confluence with Elm Creek Loop 1 | None | +1664
| Just upstream of Edgemeont Drive | +1764 | +1765
| Approximately one mile upstream from Farm-to-Market Road 707 | None | +1831
Elm Creek | Just upstream of Winters Freeway Service | +1684 | +1685 | City of Abilene.
| Just downstream of US Highway 83 | +1705 | +1704
Elm Creek Diversion 1 | At the confluence with Elm Creek | +1724 | +1725 | City of Abilene.
| Just downstream of Don Juan Street | #2 | +1727
Elm Creek Loop 1 | Ending at the lower confluence with Elm Creek | None | +1656 | City of Abilene, Unincorporated Areas of Taylor County.
| Starting at the upper confluence with Elm Creek | None | +1663
Elm Creek Overflow | At the confluence with Little Elm Creek | +1734 | +1732 | City of Abilene.
| Approximately 1,800 feet upstream of Twylight Trail | #2 | +1769
Elm Creek Overflow Path 1 | At the confluence with Swale A-1 | +1682 | +1685 | City of Abilene.
| Just upstream of Ambler Avenue | +1700 | +1701
Elm Creek Overflow Path 1-A | At the confluence with Elm Creek Overflow Path 1 | +1693 | +1696 | City of Abilene.
| Approximately 0.5 miles upstream of Ambler Avenue | +1703 | +1702
Elm Creek Overflow Path 2 | At the confluence with Elm Creek | +1704 | +1702 | City of Abilene.
| Just downstream of the Texas and Pacific Railroad | #2 | +1721
Elm Creek to Cedar Creek Overflow | Approximately 1.3 miles downstream of Farm-to-Market Road 3308 | None | +1646 | City of Abilene, Unincorporated Areas of Taylor County.
| Just downstream of Farm-to-Market Road 3308 | +1657 | +1656
Indian Creek | At the confluence with Elm Creek | +1690 | +1693 | City of Abilene, Unincorporated Areas of Taylor County.
| Approximately 0.9 miles upstream of Shirley Road | None | +1699
Little Elm Creek | At the confluence with Elm Creek | +1700 | +1702 | City of Abilene, Unincorporated Areas of Taylor County.
| Approximately one mile upstream of Dyess Air Force Service Road | None | +1784
Little Elm Creek Overflow A | At the confluence with Little Elm Creek | +1730 | +1729 | City of Abilene.
| At the confluence with Elm Creek Overflow | #2 | +1750
Lytle Creek | At the confluence with Cedar Creek | +1696 | +1697 | City of Abilene, Unincorporated Areas of Taylor County.
| Just downstream of County Road 111-1 | +1759 | +1760
Rainy Creek | Just downstream of Lowden Street | None | +1670 | City of Abilene.
| Just upstream of Griffith Street | None | +1682
| Approximately 0.5 miles downstream of North 10th Street | None | +1688
| Just downstream of North 10th Street | None | +1696
Swale A | Just upstream of Interstate 20 | +1681 | +1685 | City of Abilene.
| Just downstream of State Street | None | +1713
Swale A-1 | Just upstream of Interstate 20 | +1687 | +1685 | City of Abilene.
| Just downstream of Yale Avenue | None | +1715
Tributary No. 1 to Elm Creek | At the confluence with Elm Creek | +1766 | +1767 | City of Abilene, Unincorporated Areas of Taylor County.
| Approximately 1.6 miles upstream of Rebecca Lane | None | +1792
Tributary No. 1 to Little Elm Creek | Just downstream of Interstate 20 Business | +1711 | +1712 | City of Abilene.
| Approximately 1.5 miles upstream of Interstate 20 Business | None | +1734
Tributary No. 2 to Elm Creek | At the confluence with Elm Creek | +1774 | +1781 | City of Abilene, Unincorporated Areas of Taylor County.
| Just upstream of County Road 314 | None | +1811
Unnamed Tributary to Cat Claw Creek | At the confluence with Cat Claw Creek | +1802 | +1803 | City of Abilene.
| Approximately 600 feet upstream of Rio Mesa Road | None | +1821
Unnamed Tributary to Rainy Creek | At the confluence with Rainy Creek | None | +1694 | City of Abilene.
| Just downstream of Stamford Street | None | +1695
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Abilene
Maps are available for inspection at 555 Walnut St., Abilene, TX 79601.
Unincorporated Areas of Taylor County
Maps are available for inspection at 400 Oak Street, Suite 107, Abilene, TX 79602.
Polk County, Wisconsin, and Incorporated Areas
Balsam Lake | Entire Shoreline | None | +1135 | Unincorporated Areas of Polk County, Village of Balsam Lake.
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of Polk County
Maps are available for inspection at Government Center, 100 Polk County Plaza, Balsam Lake, WI 54810.
Village of Balsam Lake
Maps are available for inspection at Village Hall, 404 Main Street, Balsam Lake, WI 54810.

(Catalog of Federal Domestic Assistance No. 97.022, “Flood Insurance.”)

Dated: June 17, 2009.
Deborah S. Ingram,
Acting Deputy Assistant Administrator for Mitigation, Mitigation Directorate, Department of Homeland Security, Federal Emergency Management Agency.

[FR Doc. E9-15674 Filed 7-1-09; 8:45 am]

BILLING CODE 9110-12-P